DEPARTMENT OF LABOR

Employment and Training Administration

[TA-W-71,401]

Setco Automotive, Inc., Paris, TN; Notice of Revised Determination on Reconsideration

By application dated April 5, 2010, the Tennessee AFL-CIO Technical Assistance Office (Union) requested administrative reconsideration of the negative determination regarding workers' eligibility to apply for Trade Adjustment Assistance (TAA) applicable to workers and former workers of the subject firm.

The initial investigation resulted in a negative determination, issued on March 9, 2010, that was based on the finding that there was no increase in imports by the workers' firm or customers of the subject firm, nor was there a shift or acquisition by the workers' firm, and neither the workers' firm nor its customers reported imports of articles like or directly competitive with articles into which the automotive clutch products produced by the workers' firm was directly incorporated into. The Department's Notice of determination was published in the Federal Register on April 23, 2010 (FR 75 21358).

The reconsideration investigation revealed that, during 2008 and 2009, the subject firm sold component parts (automotive clutch products) to be incorporated into an article to a firm that employed a worker group currently eligible to apply for TAA, and that the article was the basis for the certification. The subject firm's sales to that customer in each of those two years amounted to approximately twenty percent of the subject firm's total sales.

Conclusion

After careful review of the additional facts obtained on reconsideration, I determine that workers of Setco Automotive, Inc., Paris, Tennessee meet the worker group certification criteria under Section 222(c) of the Act, 19 U.S.C. 2272(c). In accordance with Section 223 of the Act, 19 U.S.C. 2273, I make the following certification:

All workers of Setco Automotive, Inc., Paris, Tennessee, who became totally or partially separated from employment on or after June 25, 2008, through two years from the date of this certification, and all workers in the group threatened with total or partial separation from employment on date of certification through two years from the date of certification, are eligible to apply for adjustment assistance under Chapter 2 of Title II of the Trade Act of 1974, as amended.

Signed in Washington, DC, this 4th day of May, 2010.
Del Min Amy Chen,
Certifying Officer, Division of Trade Adjustment Assistance.

[FR Doc. 2010-12115 Filed 5-19-10; 8:45 am]

BILLING CODE 4510-FN-P